DEPARTMENT OF TRANSPORTATION

Federal Aviation Administration

Office of Commercial Space Transportation: Notice of Availability, Notice of Public Comment Period, Notice of Public Meeting, and Request for Comment on the Draft Programmatic Environmental Assessment for Front Range Airport Launch Site Operator License, Spaceport Colorado

AGENCY: Federal Aviation Administration, DOT.

ACTION: Notice of availability, notice of public comment period, notice of public meeting, and request for comment.

SUMMARY: The FAA is announcing the availability of and requesting comments on the Draft Programmatic Environmental Assessment (PEA) for the Front Range Airport Launch Site Operator License, Spaceport Colorado. The FAA has prepared the Draft PEA to evaluate the potential environmental impacts of issuing a Launch Site Operator License to the Board of County Commissioners (the BOCC) of Adams County, Colorado to operate a commercial space launch site, called “Spaceport Colorado,” at the Front Range Airport (FTG), in Watkins, Colorado. The Launch Site Operator License would allow the BOCC to offer Spaceport Colorado to commercial launch providers to conduct launch operations of horizontal take-off and horizontal landing reusable launch vehicles (RLVs).

DATES: Comments must be received on or before May 25, 2018.

The FAA will hold a public meeting to solicit comments from the public concerning the content and analysis in the Draft PEA. The public meeting will be held on May 17, 2018 from 5:00 p.m. to 8:00 p.m. The public meeting will include an open house workshop from 5:00 p.m. to 6:00 p.m., an FAA presentation from 6:00 p.m. to 6:15 p.m., followed by a public comment period from 6:15 p.m. to 8:00 p.m., during which members of the public may provide up to a 3-minute statement. The FAA will transcribe oral comments. All comments received during the meeting and comment period, whether provided in writing or verbally, will be given equal weight and will be taken into consideration in the preparation of the Final PEA.

ADDRESSES: The FAA will hold the public meeting at the following location: Front Range Airport, Cafeteria, 5200 Front Range Parkway, Watkins, CO 80137.

Please submit comments or questions regarding the Draft PEA to Stacey Zee, Environmental Specialist, Federal Aviation Administration, c/o ICF, 9300 Lee Hwy, Fairfax, VA 22031. Comments may also be submitted by email to Spaceport_Colorado_PEA@icf.com.

FOR FURTHER INFORMATION CONTACT: Ms. Stacey M. Zee, Environmental Specialist, Federal Aviation Administration, 800 Independence Ave. SW, Suite 325, Washington, DC 20591; telephone (202) 267-9305; email Spaceport_Colorado_PEA@icf.com.

SUPPLEMENTARY INFORMATION: The FAA has prepared the Draft PEA in accordance with the National Environmental Policy Act of 1969 (NEPA; 42 United States Code 4321 et seq.), the Council on Environmental Quality (CEQ) Regulations for Implementing the Procedural Provisions of NEPA (40 Code of Federal Regulations [CFR] parts 1500-1508), and FAA Order 1050.1F, Environmental Impacts: Policies and Procedures, as part of its licensing process. Concurrent with the NEPA process, the FAA has initiated National Historic Preservation Act Section 106 Consultation to determine the potential effects of the Proposed Action on historic properties. The FAA has also consulted with the U.S. Fish and Wildlife Service under Section 7 of the Endangered Species Act regarding potential impacts on federally listed threatened and endangered species. Pursuant to the U.S. Department of Transportation Act of 1966, this Draft PEA will comply with the requirements of section 4(f) of the Act.

An electronic version of the Draft PEA is available on the FAA Office of Commercial Space Transportation website at: https://www.faa.gov/about/office_org/headquarters_offices/ast/environmental/nepa_docs/review/documents_progress/front_range/.

The FAA encourages all interested agencies, organizations, Native American tribes, and members of the public to submit comments concerning the analysis presented in the Draft PEA by May 25, 2018. Comments should be as specific as possible and address the analysis of potential environmental impacts. Reviewers should organize their participation so that it is meaningful and makes the agency aware of the viewer's interests and concerns using quotations and other specific references to the text of the Draft PEA and related documents. Matters that could have been raised with specificity during the comment period on the Draft PEA may not be considered if they are raised for the first time later in the decision process. This commenting procedure is intended to ensure that substantive comments and concerns are made available to the FAA in a timely manner so that the FAA has an opportunity to address them.

Before including your address, phone number, email address, or other personal identifying information in your comment, be advised that your entire comment—including your personal identifying information—may be made publicly available at any time. While you can ask us in your comment to withhold from the public review your personal identifying information, we cannot guarantee that we will be able to do so.

The FAA has prepared the Draft PEA to evaluate the potential environmental impacts of issuing a Launch Site Operator License to the BOCC of Adams County, Colorado to operate a commercial space launch site, called “Spaceport Colorado,” at FTG, in Watkins, Colorado. The successful completion of the environmental review process does not guarantee that the FAA Office of Commercial Space Transportation would issue a Launch Site Operator License to the BOCC. The project must also meet all FAA requirements of a Launch Site Operator License. Individual launch operators proposing to launch from the site would be required to obtain a separate launch operator license.

The CEQ Regulations for Implementing the Procedural Provisions of NEPA allow for federal agencies to prepare programmatic NEPA documents for broad federal actions (40 CFR 1502.4). Given that FTG does not have a commitment from a launch operator at this time, the analysis in this PEA uses a conceptual RLV and is based on broad assumptions regarding the location of related facilities and the surface movement of RLVs associated with operation of a horizontal RLV at FTG. The purpose of including these assumptions is to conservatively assess the potential environmental impacts of launch vehicle operations at FTG. This information does not necessarily reflect the exact launch vehicle(s) that would operate at FTG. Instead, it defines the scope (or bounds) of the analysis. If a prospective launch operator applies for a license to operate a launch vehicle at FTG, a separate environmental document, tiering off of this PEA, would be required to support the issuance of that Launch Operator License.

The Draft PEA considers the potential environmental impacts of the Proposed Action and No Action Alternative. The Proposed Action is for the FAA to issue a Launch Site Operator License to the BOCC that would allow the BOCC to offer the commercial space launch site, Spaceport Colorado, to commercial launch providers to conduct launch operations of horizontal take-off and horizontal landing reusable launch vehicles. The FAA would also conditionally approve the modified Airport Layout Plan showing the launch site boundary. Under the No Action Alternative, the FAA would not issue a Launch Site Operator License to the BOCC.

The Draft PEA evaluates the potential environmental impacts from the Proposed Action and No Action Alternative on air quality; biological resources (including fish, wildlife, and plants); climate; coastal resources; Department of Transportation Act, section 4(f); farmlands; hazardous materials, solid waste, and pollution prevention; historical, architectural, archaeological, and cultural resources; land use; natural resources and energy supply; noise and noise-compatible land use; socioeconomics, environmental justice, and children's environmental health and safety risks; visual effects (including light emissions); and water resources (including wetlands, floodplains, surface waters, groundwater, and wild and scenic rivers). Potential cumulative impacts are also addressed in the Draft PEA.

Issued in Washington, DC, on April 11, 2018.
Daniel Murray,
Manager, Space Transportation Development Division.

[FR Doc. 2018-08345 Filed 4-19-18; 8:45 am]

BILLING CODE 4910-13-P